DEPARTMENT OF DEFENSE

Office of the Secretary

Proposed Collection; Comment Requested

AGENCY: Office of the Under Secretary of Defense (Personnel and Readiness), DoD.

ACTION: Notice.

In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by December 19, 2003.

ADDRESSES: Written comments and recommendations on the proposed information collection should be sent to the Office of the Under Secretary of Defense (Personnel and Readiness) (Program Integration) Legal Policy, ATTN: Lt Col Patrick Lindemann, 4000 Defense Pentagon, Washington, DC 20301-4000.

FOR FURTHER INFORMATION CONTACT: To request more information on this proposed information collection or to obtain a copy of the proposal and associated collection instruments, please write to the above address or call at (703) 697-3387.

Title, Associated form, and OMB Control Number: Involuntary Allotment Application; DD Form 2653, OMB Control Number 0704-0367.

Needs and Uses: This information collection requirement is necessary to initiate an involuntary allotment from the pay of a member of the Uniformed Services for indebtedness owed a third party under 5 U.S.C. 5520a. 5 U.S.C. 5520a authorizes involuntary allotments if there is a final court judgment acknowledging the debt and it is determined by competent military or executive authority to be in compliance with the procedural requirements of the Soldiers' and Sailors' Civil Relief Act. In order to satisfy these statutory requirements, the DD Form 2653, requires the respondent to provide identifying information on the member of the Uniformed Services; provide a certified copy of the judgment, and certify, if applicable, that the judgment complies with the Soldiers' and Sailors' Civil Relief Act.

Affected Public: Individuals or households; businesses or other for profit.

Annual Burden Hours: 4,650.

Number of Respondents: 9,300.

Responses Per Respondent: 1.

Average Burden Per Response: 30 minutes.

Frequency: On Occasion.

SUPPLEMENTARY INFORMATION:

Summary of Information Collection

This information is used by the Department of Defense to initiate an involuntary allotment from the pay of a member of the Uniformed Services for indebtedness owed a third party as determined by the final judgment of a court.

This requirement was created by “The Hatch Act Reform amendments of 1993,” Pub. L. 103-94. The DD Form 2653, “Involuntary Allotment Application,” requires the creditor to provide identifying information on the member of the Uniformed Services, provide a certified copy of the judgment, and certify that the members' rights under the Soldiers' and Sailors' Civil Relief Act were protected.

Dated: October 6, 2003.
Patricia L. Toppings,
Alternate OSD Federal Register Liaison Officer, Department of Defense.

[FR Doc. 03-26334 Filed 10-17-03; 8:45 am]

BILLING CODE 5001-08-M